NATIONAL AERONAUTICS AND SPACE ADMINISTRATION

[Notice (02-060)]

Notice of Prospective Patent License

AGENCY: National Aeronautics and Space Administration.

ACTION: Notice of Availability.

SUMMARY: NASA hereby gives notice that U.S. Patent No. 6,207,114 entitled, “Reactive Material Placement Technique for Groundwater Treatment,” and NASA Case No. KSC-12246, entitled, “Zero-Valent Metal Emulsion for Reductive Dehalogenation of DNAPLs,” are available for licensing on a nonexclusive basis. Both of these inventions are assigned to the United States of America as represented by the Administrator of the National Aeronautics and Space Administration.

FOR FURTHER INFORMATION CONTACT: Randy Heald, Assistant Chief Counsel/Patent Counsel, Kennedy Space Center, Mail Code CC-A, Kennedy Space Center, FL 32899-0001, telephone (321) 867-7214.

May 8, 2002.
Robert M. Stephens,
Deputy General Counsel.

[FR Doc. 02-12628 Filed 5-20-02; 8:45 am]

BILLING CODE 7510-01-P